DEPARTMENT OF ENERGY

Federal Energy Regulatory Commission

[Project No. 298-083]

Southern California Edison Company; Notice of Application Accepted for Filing and Soliciting Comments, Motions To Intervene, and Protests

Take notice that the following hydroelectric application has been filed with the Commission and is available for public inspection:

a. Application Type: Temporary variance of license flow requirements.

b. Project No.: 298-083.

c. Date Filed: July 20, 2022.

d. Applicant: Southern California Edison Company (licensee).

e. Name of Project: Kaweah Project.

f. Location: The project is located on the East Fork, Marble Fork, and Middle Fork of the Kaweah River in Tulare County, California, and occupies lands of the United States administered by the Bureau of Land Management.

g. Filed Pursuant to: Federal Power Act, 16 U.S.C. 791(a)-825(r).

h. Applicant Contact: Mr. Wayne Allen, Southern California Edison Company, 1515 Walnut Grove Avenue, Rosemead, California 91770; (626) 302-9741; wayne.allen@sce.com.

i. FERC Contact: Joy Kurtz, (202) 502-6760, joy.kurtz@ferc.gov.

j. Deadline for filing comments, motions to intervene, and protests is September 2, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include docket number P-298-083. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests Commission approval through the end of 2022 for a temporary variance of the minimum flow requirements below the Kaweah No. 1 and No. 2 diversions, as required by Article 405 of the project license. The licensee states that the projected runoff is extremely low, and current runoff in the Kaweah River and East Fork Kaweah River is at the lowest level in 20 years. Being that the licensee cannot accurately forecast long-term runoff during this extreme drought event, it is proactively requesting the temporary variance to allow it to balance available instream flow with its contractual water rights obligations, should it become necessary. Should drought conditions persist and the temporary variance is implemented, the licensee would deliver the minimum amount of water necessary through the respective diversion in order to meet its contractual water rights obligations; the licensee would not generate at the respective powerhouse(s) during implementation of the variance. The licensee would only implement the variance in the event that low inflow into the diversion dam(s) impairs the ability to meet both minimum instream flow releases and domestic water supply requirements. Additionally, the licensee proposes to monitor and report flow conditions to U.S. Fish and Wildlife Service and California Department of Fish and Wildlife during the temporary variance.

l. Locations of the Application: The Commission provides all interested persons an opportunity to view and/or print the contents of this document via the internet through the Commission's website at http://www.ferc.gov/docs-filing/elibrary.asp. Enter the docket number excluding the last three digits in the docket number field to access the document. You may also register online at http://www.ferc.gov/docs-filing/esubscription.asp to be notified via email of new filings and issuances related to this or other pending projects. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. A copy of all other filings in reference to this application must be accompanied by proof of service on all persons listed in the service list prepared by the Commission in this proceeding, in accordance with 385.2010.

Dated: August 3, 2022.
Kimberly Bose,
Secretary.

[FR Doc. 2022-17126 Filed 8-9-22; 8:45 am]

BILLING CODE 6717-01-P